ENVIRONMENTAL PROTECTION AGENCY

OPP-2004-0294; FRL-7694-7]

Pesticide Products; Registration Applications

AGENCY: Environmental Protection Agency (EPA).

ACTION: Notice.

SUMMARY: This notice announces receipt of applications to register pesticide products containing new active ingredients not included in any previously registered products pursuant to the provisions of section 3(c)(4) of the Federal Insecticide, Fungicide, and Rodenticide Act (FIFRA), as amended.

DATES: Written comments, identified by the docket ID number OPP-2004-0294, must be received on or before February 7, 2005.

ADDRESSES: Comments may be submitted electronically, by mail, or through hand delivery/courier. Follow the detailed instructions as provided in Unit I. of the SUPPLEMENTARY INFORMATION.

FOR FURTHER INFORMATION CONTACT: The Product Manager (PM), Antimicrobials Division (7510C), listed in the table below:

Product Manager | Telephone number/e-mail address | Mailing address | File symbol
Velma Noble (PM 31) | (703) 308-6233; noble.velma@epa.gov. | Antimicrobials Division (7510C), Office of Pesticides, Environmental Protection Agency, 1200 Pennsylvania Ave., NW., Washington, DC 20460-0001 | 75680-R 3090-EEN 6836-EIG 6836-EIU 5185-UOO; 74234-R
Marshall Swindell (PM 33) | (703) 308-6341; swindell.marshall@epa.gov | Do. | 1258-REUT 39967-UO 2693-ERU 2693-ERL 2214-RT 49403-GN 49403-EO 43813-ET
Adam Heyward (PM 34) | (703) 308-6422; heyward.adam@epa.gov | Do. | 75269-E (MUP); 75799-R (MUP) 75799-E (EP) 43813-GG (MUP) 43813-GU (EP) 43813-GL (EP)

SUPPLEMENTARY INFORMATION:

I. General Information

A. Does this Action Apply to Me?

You may be potentially affected by this action if you manufacture antimicrobial pesticides. The following use patterns are included in this notice: Wood preservatives, preservatives for paints, adhesives, coatings, material preservative for treated articles, manufacturing use products (MUPs) for making antifouling paint products, antifouling boat bottom paint, residential mold and mildew control, medical waste treatment, and cooling towers. Potentially affected entities may include, but are not limited to:

• Food manufacturing (NAICS 311)

• Pesticide manufacturing (NAICS 32532).

This listing is not intended to be exhaustive, but rather provides a guide for readers regarding entities likely to be affected by this action. Other types of entities not listed in the table could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2004-0294. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell Street, Arlington, VA 22202. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPP-2004-0294. The system is an “anonymous access” system, which means EPA will not know your identity, e-mail address, or other contact information unless you provide it in the body of your comment.

ii. E-mail. Comments may be sent by e-mail to opp-docket@epa.gov, Attention: Docket ID Number OPP-2004-0294. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB), Office of Pesticide Programs (OPP), Environmental Protection Agency (7502C), 1200 Pennsylvania Ave., NW., Washington, DC 20460-0001, Attention: Docket ID Number OPP-2004-0294.

3. By hand delivery or courier. Deliver your comments to: Public Information and Records Integrity Branch (PIRIB), Office of Pesticide Programs (OPP), Environmental Protection Agency, Rm. 119, Crystal Mall #2, 1801 S. Bell S., Arlington, VA 22202, Attention: Docket ID Number OPP-2004-0294. Such deliveries are only accepted during the docket's normal hours of operation as identified in Unit I.B.1.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the registration activity.

7. Make sure to submit your comments by the deadline in this notice.

8. To ensure proper receipt by EPA, be sure to identify the docket ID number assigned to this action in the subject line on the first page of your response. You may also provide the name, date, and Federal Register citation.

II. Registration Applications

EPA received applications as follows to register pesticide products containing active ingredients not included in any previously registered products pursuant to the provision of section 3(c)(4) of FIFRA. Notice of receipt of these applications does not imply a decision by the Agency on the applications.

Products Containing Active Ingredients Not Included in any Previously Registered Products

1. File symbol: 75680-R. Applicant: Rutherford Chemicals. Contact: The Acta Group 1203 Nineteenth St., NW., Suite 300, Washington, DC 20036-2401. Product Name: Rutherford Cetyl Pyridinium Chloride. Type of Product: Indoor preservative and protectant. Active Ingredient: Cetyl Pyridinium Chloride (CPC) at 97.8%. Proposed classification/Use: None. For use on leather and leather products and processing liquors, paints, textiles and fibers of, paper and paper products and resin emulsions.

2. File symbol: 3090-EEN. Applicant: Sanitized, Inc. Contact: Steward Klein, P.O. Box 2211, New Preston, CT 06777. Product Name: T99-19. Type of Product: Textile treatment. Active Ingredient: Dimetyl tetradecyl-[3-(trimethoxy silyl)-propyl] ammonium chloride at 40%. Proposed classification/Use: None. For treatment on textiles products.

3. File symbol: 6836-EIG. Applicant: Lonza. Contact: Eliot Harrison 122 C St., NW., Suite 740, Washington, DC 20001 Product Name: Lonzabac 12. Type of Product: Antimicrobial. Active Ingredient: Bis (3 aminopropyl) dodecylamine.at 91.4%. Proposed classification/Use: None. For treatment of hard non-porous in industrial and institutional sites.

4. File symbol: 6836-EIU. Applicant: Lonza. Contact: Eliot Harrison 122 C St., NW., Suite 740, Washington, DC 20001 Product Name: Lonzabac Formulation LNZ-64. Type of Product: Disinfectant. Active Ingredient: Bis (3 aminopropyl) dodeclamine at 4.86%. Proposed classification/Use: None. For use in industrial and institutional sites on hard non-porous surfaces.

5. File symbol: 5185-UOO. Applicant: Bio-Lab Inc. Contact: Mark Jernigan, P.O. Box 300002 Lawrenceville, GA 30049-1002. Product Name: Bellacide 350. Type of Product: Algicide, bactericide, fungicide. Active Ingredient: Tributyl tetradecyl phosphonium chloride at 50%. Proposed classification/Use: None. For recirculating cooling water and process water systems.

6. File symbol: 74234-R. Applicant: Intralytix, Inc. Contact: Eliot Harrison, 122 C St., NW., Suite 740, Washington, DC 2000. Product Name: LMP-102. Type of Product: Non-food contact sanitizer. Active Ingredient: Listeria Specific Bacteriophages. Proposed classification/Use: None. For use as a sanitizer in food processing and handling facilities.

7. File Symbol: 43813-ET. Applicant: William Goodwine, Janssen Pharmaceutical, Inc., Plant and Material Protection Division, 1125 Trenton-Harbourton Road, Titusville, NJ 08560-0200. Product Name: Econea Technical. Type of Product: Manufacturing Use Product (MUP). Active Ingredient: 1H-Pyrrole-3-carbonitrile, 4-bromo-2-(4-chlorophenyl)-5-trifluoromethyl at 93.2%. Proposed classification/Use: None. For use as an antifoulant paint product.

8. File symbol: 1258-REUT. Applicant: Arch Chemical Co. Contact: Gary Schifilliti, 1955 Lake Park Drive, Smyrna, Georgia 30080. Product Name: Copper Omadine Powder AF. Type of Product: MUP. Active Ingredient: Copper 2-Pyridinethiol-1-Oxide at 85%. Proposed classification/Use: None. For use as an antifoulant paint product.

9. File Symbol: 11350-GL. Applicant: Sigma Coatings USA BV, Box 816, Harvey, LA 70059. Product Name: Sigma Nexxium 20 Antifouling. Type of Product: Antifoulant. Active Ingredient: Contains 3.4% of the active ingredient described in 43813-ET. Proposed classification/Use: None. For use as an antifoulant paint product.

10. File Symbol: 2214-RT. Applicant: Tetra Industries, Inc., 25025 I-45 North The Woodlands, TX 77380. Product Name: Damprid. Type of Product: Residential mold and mildew product. Active Ingredient: Calcium chloride at 82%. Proposed classification/Use: None. For use on mold and mildew.

11. File Symbol: 49403-GN. Applicant: Clariant Corporation, 4000 Monroe Road, Charlotte, NC 28205. Product Name: JMAC Composite PG Technical. Type of Product: Manufacturing Use Only Product. Active Ingredient: Silver chloride coated titanium dioxide at 100%. Proposed classification/Use: None. For products to be applied to adhesives, sealants, fibers, plastics, coatings.

12. File Symbol: 49403-EO. Applicant: Clariant Corporation, 4000 Monroe Road, Charlotte, NC 2820. Product Name: JMAC Composite PG. Type of Product: Material preservatives. Active Ingredient: Silver chloride treated titanium dioxide at 100%. Proposed classification/Use: None. For material preservative; for adhesives, sealants, fibers, plastics, coatings, films.

13. File Symbol: 39967-UO. Applicant: Lanxess Corporation, 100 Bayer Road, Pittsburg, PA 15025. Product Name: Preventol A5-S. Type of Product: Manufacturing use product. Active Ingredient: Methanesulfenamide, 1,1-dichloro-N-((dimethylamino)-1-fluoro-N-(methylphenyl) at 98.1% (tolyfluanid). Proposed classification/Use: None. For use as an antifoulant paint product.

14. File Symbol: 2693-ERU. Applicant: International Paint, Inc., 2270 Morris Avenue, Union, NJ 07083. Product Name: Micron Extra P - Blue. Type of Product: Antifoulant. Active Ingredient: Contains 1.96% of the active ingredient in 39967-UO described above (tolyfluanid). Proposed classification/Use: None. For use as an antifoulant paint product.

15. File Symbol: 2693-ERL. Applicant: International Paint, Inc., 2270 Morris Avenue, Union, NJ 07083. Product Name: Ultra P - Blue. Type of Product: Antifoulant. Active Ingredient: Contains 1.64% of the active ingredient in 39967-UO described above (tolyfluanid). Proposed classification/Use: None. For use as an antifoulant paint product.

16. File symbol: 75269-E (MUP). Applicant: Keller and Heckman LLP, US Agent for Rutgers Organics GmbH, 1001 G St., NW., Suite 500 West, Washington, DC 20001. Product Name: Impralit KDS. Type of Product: Wood Preservative. Active Ingredient: Polymeric betaine at 5.54%. Proposed classification/Use: None. For use on wood.

17. File symbol: 75799-R (MUP). Applicant: Akzo Nobel Functional Chemicals LLC, 5555 Spalding Drive, Suite 100, Norcross, GA 30092. Product Name: PXTS Technical. Type of Product: Wood Preservative. Active ingredient: Polyxylenol Tetrasulfide (PXTS) at 80.5%. Proposed classification/Use: None. For use on wood.

18. File symbol: 75799-E-(EP). Applicant: Akzo Nobel Functional Chemicals LLC, 5555 Spalding Drive, Suite 100, Norcross, Georgia 30092. Product Name: PXTS Blend D (EP) 115. Type of Product: Wood Preservative Active ingredient: Polyxylenol Tetrasulfide (PXTS) at 53.9%. Proposed classification/Use: None. For use on wood.

19. File symbol: 43813-GG. Applicant: William Goodwine, Janssen Pharmaceutical, Inc., Plant and Material Protection Division, 1125 Trenton-Harbourton Road, Titusville, NJ 08560-0200. Product Name: Bethoguard Technical. Type of Product: Wood Preservative. Active Ingredient: 3-(Benzo[b]thiophen-2yl)-5,6-dihydro-1,4,2-oxathiazine,4-oxide at 96.6%. Proposed classification/Use: None. For use on wood.

20. File symbol: 43813-GU. Applicant: William Goodwine, Janssen Pharmaceutical, Inc., Plant and Material Protection Division, 1125 Trenton-Harbourton Road, Titusville, NJ 08560-0200. Product Name: Bethoguard. Type of Product: Wood Preservative. Active Ingredient: 3-(Benzo[b]thiophen-2yl)-5,6-dihydro-1,4,2-oxathiazine,4-oxide at 96.6%. Proposed classification/Use: None. For Use on wood.

21. File symbol: 43813-GL. Applicant: William Goodwine, Janssen Pharmaceutical, Inc., Plant and Material Protection Division, 1125 Trenton-Harbourton Road, Titusville, NJ 08560-0200. Product Name: Bethoguard 300 SC. Type of Product: Wood Preservative. Active Ingredient: 3-(Benzo[b]thiophen-2yl)-5,6-dihydro-1,4,2-oxathiazine,4-oxide at 31.1%. Proposed classification/Use: None. For use on wood.

List of Subjects

Environmental protection, Pesticides and pest.

Dated: December 23, 2004.
Jack E. Housenger,
Acting Director, Antimicrobials Division, Office of Pesticide Programs.

[FR Doc. 05-260 Filed 1-5-05; 8:45 am]

BILLING CODE 6560-50-S